DEPARTMENT OF EDUCATION

Office of Safe and Drug-Free Schools-Alcohol and Other Drug

Prevention Models on College Campuses

AGENCY: Office of Safe and Drug-Free Schools, Department of Education.

ACTION: Notice of proposed priority and eligibility requirements.

SUMMARY: We propose a priority and eligibility requirements under the Alcohol and Other Drug Prevention Models on College Campuses grant competition. We may use the priority and eligibility requirements for competitions in FY 2005 and later years.

DATES: We must receive your comments on or before May 9, 2005.

ADDRESSES: Address all comments about the proposed priority and eligibility requirements to Vera Messina, U.S. Department of Education, 400 Maryland Avenue, SW., Room 3E258, Washington, DC 20202-6450. If you prefer to send your comments through the Internet, please use the following address: vera.messina@ed.gov.

You must include the phrase “Alcohol and Other Drug Prevention Models-Comments on FY 2005 Proposed Priority” in the subject line of your electronic message.

FOR FURTHER INFORMATION CONTACT: Vera Messina (202) 260-8273 or Ruth Tringo (202) 260-2838.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding the proposed priority and eligibility requirements. To ensure that your comments have maximum effect in developing the notice of final priority and eligibility requirements, we urge you to identify clearly whether your comment addresses the proposed priority or the eligibility requirements.

We invite you to assist us in complying with the specific requirements of Executive Order 12866 and its overall requirement of reducing regulatory burden that might result from the proposed priority and eligibility requirements. Please let us know of any further opportunities we should take to reduce potential costs or increase potential benefits while preserving the effective and efficient administration of the program.

During and after the comment period, you may inspect all public comments about the proposed priority and eligibility requirements in room 3E258, 400 Maryland Avenue, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

Proposed Priority and Eligibility Requirements

We will announce the final priority and eligibility requirements in a notice in the Federal Register. We will determine the final priority and eligibility requirements after considering responses to this notice and other information available to the Department. This notice does not preclude us from proposing or using additional priorities or eligibility requirements subject to meeting applicable rulemaking requirements.

Background

Recent research confirms that the United States continues to have major problems associated with alcohol and other drug use on college campuses. Based on 2004 data from the Monitoring the Future study, approximately 39 percent of the Nation's college students engaged in heavy drinking (defined as five or more drinks in a row) in the previous two weeks. The Core Institute 2003 Statistics on Alcohol and Other Drug Use on American Campuses report found that nearly 71 percent of underage students used alcohol and more than 21 percent of all students used an illicit drug within the 30 days prior to taking the survey.

Survey data also indicate that drinking alcohol has, frequently, very negative consequences for college students. On the 2003 Core Institute survey, more than 32 percent of students reported that, in the year prior to the survey, they had gotten into an argument or fight as a result of their drinking, almost 30 percent reported that they had driven a car under the influence, almost 34 percent reported that they had missed a class because of their drinking, and almost 40 percent reported that they had done “something I later regretted” because of their drinking.

The Department of Education seeks to support projects that address high-risk drinking and drug use and that can become practical models for replication and adaptation in other college communities. The goals of this competition are to identify models of effective campus-based alcohol and other drug prevention programs and disseminate information about these programs to other colleges and universities where similar efforts may be adopted.

Proposed Priority

Under this priority the Department would provide funding to Institutions of Higher Education (IHEs) that have been implementing effective alcohol and other drug prevention programs on their campuses. An IHE that receives funding under this priority must identify, enhance, further evaluate, and disseminate information about an effective alcohol or other drug prevention program being implemented on its campus. To meet the priority, applicants must provide in their application—

(1) A description of an alcohol or other drug prevention program that has been implemented for at least two full academic years on the applicant's campus;

(2) Evidence of the effectiveness of the program on the applicant's campus;

(3) A plan to enhance and further evaluate the program during the project period; and

(4) A plan to disseminate information to assist other IHEs in implementing a similar program.

Proposed Eligibility Requirements

We propose that only institutions of higher education (IHEs) that offer an associate or baccalaureate degree will be eligible under this program. Additionally, to be eligible, an IHE must not have received an award under this grant competition (CFDA 84.184N) during the previous five fiscal years (fiscal years 2000 through 2004).

Executive Order 12866

This notice of proposed priority and eligibility requirements has been reviewed in accordance with Executive Order 12866. Under the terms of the order, we have assessed the potential costs and benefits of this regulatory action.

The potential costs associated with the notice of proposed priority and eligibility requirements are those resulting from statutory requirements and those we have determined as necessary for administering this program effectively and efficiently.

In assessing the potential costs and benefits—both quantitative and qualitative—of this notice of proposed priority and eligibility requirements, we have determined that the benefits of the proposed priority and eligibility requirements justify the costs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF, you must have Adobe Acrobat Reader, which is available free at this site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.gpoaccess.gov/index.html.

(Catalog of Federal Domestic Assistance Number: 84.184N Office of Safe and Drug-Free Schools-Alcohol and Other Drug Prevention Models on College Campuses)

Program Authority: 20 U.S.C. 7131.

Dated: April 5, 2005.
Deborah A. Price,
Assistant Deputy Secretary for Safe and Drug-Free Schools.

[FR Doc. 05-7085 Filed 4-7-05; 8:45 am]

BILLING CODE 4000-01-P